FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012367-002.

Title: MSC/Maersk Line Trans-Atlantic Space Charter Agreement.

Parties: Maersk Line A/S and MSC Mediterranean Shipping Company S.A.

Filing Party: Wayne R. Rohde, Esq.; Cozen O'Conner; 1200 19th Street NW.; Washington, DC 20036.

Synopsis: The amendment revises the amount of space to be chartered under the agreement.

Agreement No.: 012424.

Title: CMA CGM/APL Slot Exchange Agreement.

Parties: CMA CGM, S.A.; APL Co. Pte Ltd; and American President Lines, Ltd.

Filing Party: Draughn B. Arbona, Esq; CMA CGM (America) LLC; 5701 Lake Wright Drive; Norfolk, VA 23502.

Synopsis: The agreement authorizes the parties to exchange slots in the trade between the U.S. East Coast on the one hand, and Italy, Egypt, United Arab Emirates, Sri Lanka, Singapore, Thailand, China, Hong Kong, Vietnam, Malaysia and Canada on the other hand.

By Order of the Federal Maritime Commission.
Dated: July 8, 2016.
Karen V. Gregory,
Secretary.

[FR Doc. 2016-16570 Filed 7-12-16; 8:45 am]

BILLING CODE 6731-AA-P